SMALL BUSINESS ADMINISTRATION

[Disaster Declaration #21431 and #21432; CALIFORNIA Disaster Number CA-20039]

Administrative Declaration Amendment of a Disaster for the State of California

AGENCY: U.S. Small Business Administration.

ACTION: Amendment 1.

SUMMARY: This is an amendment of the Administrative declaration of disaster for the State of California dated February 3, 2026.

Incident: 2026 Early January Storm, Tidal Flooding, and King Tides.

DATES: Issued on February 13, 2026.

Incident Period: December 31, 2025 through January 5, 2026.

Physical Loan Application Deadline Date: April 6, 2026.

Economic Injury (EIDL) Loan Application Deadline Date: November 3, 2026.

ADDRESSES: Visit the MySBA Loan Portal at https://lending.sba.gov to apply for a disaster assistance loan.

FOR FURTHER INFORMATION CONTACT: Sharon Henderson, Office of Disaster Recovery and Resilience, U.S. Small Business Administration, 409 3rd Street SW, Suite 6050, Washington, DC 20416, (202) 205-6734.

SUPPLEMENTARY INFORMATION: The notice of an Administrative declaration for the State of California, dated February 3, 2026 is hereby amended to include the following areas as adversely affected by the disaster.

Primary Counties: Marin.

Contiguous Counties:

California: Contra Costa, San Francisco, Sonoma.

All other information in the original declaration remains unchanged.

(Catalog of Federal Domestic Assistance Number 59008)

(Authority: 13 CFR 123.(b).)

James Stallings,
Associate Administrator, Office of Disaster Recovery & Resilience.

[FR Doc. 2026-03274 Filed 2-18-26; 8:45 am]

BILLING CODE 8026-09-P